DEPARTMENT OF COMMERCE

Foreign-Trade Zones Board

[B-01-2022]

Foreign-Trade Zone (FTZ) 38—Spartanburg County, South Carolina; Notification of Proposed Production Activity, BMW Manufacturing Company, LLC (Passenger Motor Vehicles), Spartanburg, South Carolina

BMW Manufacturing Company, LLC submitted a notification of proposed production activity to the FTZ Board (the Board) for its facility in Spartanburg, South Carolina within Subzone 38A. The notification conforming to the requirements of the Board's regulations (15 CFR 400.22) was received on January 13, 2022.

Pursuant to 15 CFR 400.14(b), FTZ production activity would be limited to the specific foreign-status component described in the submitted notification (summarized below) and subsequently authorized by the Board. The benefits that may stem from conducting production activity under FTZ procedures are explained in the background section of the Board's website—accessible via www.trade.gov/ftz. The proposed component would be added to the production authority that the Board previously approved for the operation, as reflected on the Board's website.

The proposed foreign-status component is plastic terminal battery caps (duty-free). The request indicates that the component is subject to duties under section 301 of the Trade Act of 1974 (section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is March 7, 2022.

A copy of the notification will be available for public inspection in the “Online FTZ Information System” section of the Board's website.

For further information, contact Christopher Wedderburn at Chris.Wedderburn@trade.gov.

Dated: January 20, 2022.
Andrew McGilvray,
Executive Secretary.

[FR Doc. 2022-01394 Filed 1-24-22; 8:45 am]

BILLING CODE 3510-DS-P